ENVIRONMENTAL PROTECTION AGENCY

[EPA-HQ-OW-2010-0782; ER-FRL-8996-7]

Initiation of Scoping for an Environmental Assessment (EA)

AGENCY: Environmental Protection Agency (EPA).

ACTION: Initiation of Scoping.

SUMMARY: Pursuant to the National Environmental Policy Act (NEPA) (42 U.S.C. 4321-4307h), the Council on Environmental Quality's NEPA regulations (40 CFR parts 1500-1508), and EPA's regulations for implementing NEPA (40 CFR part 6), EPA will prepare an Environmental Assessment (EA) to analyze the potential environmental impacts related to the reissuance of the National Pollutant Discharge Elimination System (NPDES) General Permit for Discharges from Construction Activities. The EA will evaluate the potential environmental impacts from the discharge of pollutants associated with stormwater runoff from construction activities greater than one acre, where EPA is the permitting authority. EPA will use the information in the EA to determine whether to prepare an Environmental Impact Statement (EIS).

This notice initiates the scoping process by inviting comments from Federal, State, and local agencies, Indian tribes, and the public to help identify the environmental issues and reasonable alternatives to be examined in the EA. The scoping process will inform the preparation of the EA, which will be made available for public comment.

DATES: Comments must be received by May 27, 2011.

ADDRESSES: You may submit scoping comments to the Docket ID No. EPA-HQ-OW-2010-0782 by any of the following methods:

• Federal eRulemaking Portal: Go to http://www.regulations.gov. Follow the online instructions for submitting comments by clicking on “Help” or “FAQs.”

• Mail: Attn: CGP Scoping Comments, U.S. Environmental Protection Agency, Ariel Rios Building, 1200 Pennsylvania Avenue, NW., Mail Code: 2252A, Washington, DC 20460.

• Courier: Attn: CGP Scoping Comments, U.S. Environmental Protection Agency, Ariel Rios Building, 1200 Pennsylvania Avenue, NW., Rm. #7241C, Washington, DC 20004, between 9 a.m. and 5 p.m. Eastern time, Monday through Friday, except Federal holidays.

• Fax: 202-564-0072, ATTN: CGP Scoping Comments.

Comments should be received within 30 days of the date of the publication of the Proposed Construction General Permit in the Federal Register. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov. The http://www.regulations.gov Web site is an “anonymous access” system, which means EPA will not know your identity or contact information unless you provide it in the body of your comment. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: Jessica Trice, NEPA Compliance Division, Office of Federal Activities, U.S. Environmental Protection Agency, 1200 Pennsylvania Avenue, NW., Mail Code: 2252A, Washington, DC 20460. Telephone: (202) 564-6646.

SUPPLEMENTARY INFORMATION: EPA is seeking public comment to determine the scope of environmental issues and reasonable alternatives to be addressed in the EA on the reissuance of the National Pollutant Discharge Elimination System (NPDES) general permit for stormwater discharges from construction activities that are greater than one acre. EPA invites the public to submit comments through Regulations.gov or by mail or fax to the address cited in the ADDRESSES section during the 30-day comment period following the publication of the Proposed Construction General Permit in the Federal Register.

Since 1992, EPA has issued a series of NPDES Construction General Permits (CGP) that cover areas where EPA is the permitting authority. At present, EPA is the permitting authority in four states (Idaho, Massachusetts, New Hampshire, and New Mexico), the District of Columbia, Puerto Rico, all U.S. territories with the exception of the Virgin Islands, federal facilities in four states (Colorado, Delaware, Vermont, and Washington), most Indian lands and a few other specifically designated activities in specific states (e.g., oil and gas activities in Texas and Oklahoma). EPA's current CGP became effective on June 30, 2008 (see 74 FR 40338) and will expire on June 30, 2011. (Note: On April 25, 2011, EPA proposed extending the expiration of the 2008 CGP until January 31, 2012. See 76 FR 22891.) On April 25, 2011, EPA proposed for public comment the draft National Pollutant Discharge Elimination System general permit for stormwater discharges from large and small construction activities. 76 FR 22882. The proposed permit would replace the 2008 CGP, as well as the 2003 CGP for construction sites still covered under that administratively continued permit. EPA proposes to issue the construction general permit for five (5) years, and to provide permit coverage to eligible existing and new construction projects in all areas of the country where EPA is the NPDES permitting authority.

EPA is currently planning to analyze two alternatives in the EA: No Action, that is not issuing the CGP; and the proposed action, which is issuing the draft CGP implementing the technology-based Effluent Limitation Guidelines and New Source Performance Standards (C&D Rule). The C&D Rule was issued by EPA for the construction and development industry on December 1, 2009. These requirements include (1) non-numeric effluent limitations that apply to all permitted discharges from construction sites in order to minimize the discharge of pollutants, and (2) a numeric effluent limit that applies to sites over 10 acres. The EA will analyze the potential environmental impacts of both alternatives on threatened and endangered species, water quality, and historic properties.

Dated: April 28, 2011.
Robert W. Hargrove,
Director, NEPA Compliance Division, Office of Federal Activities.

[FR Doc. 2011-10736 Filed 5-2-11; 8:45 am]

BILLING CODE 6560-50-P